DEPARTMENT OF AGRICULTURE

Animal and Plant Health Inspection Service

[Docket No. 01-127-1]

Availability of a Study on Systems Approaches to Mitigating Plant Pest Risk

AGENCY: Animal and Plant Health Inspection Service, USDA.

ACTION: Notice and request for comments.

SUMMARY: We are advising the public that the National Plant Board, at the request of the Animal and Plant Health Inspection Service, has prepared a study on the role for and application of systems approaches designed to guard against the introduction of plant pathogens into the United States on imported plants and associated products. We are making this study available to the public for review and comment.

DATES: We will consider all comments that we receive on or before August 5, 2002.

ADDRESSES: You may submit comments by postal mail/commercial delivery or by e-mail. If you use postal mail/commercial delivery, please send four copies of your comment (an original and three copies) to: Docket No. 01-127-1, Regulatory Analysis and Development, PPD, APHIS, Station 3C71, 4700 River Road Unit 118, Riverdale, MD 20737-1238. Please state that your comment refers to Docket No. 01-127-1. If you use e-mail, address your comment to regulations@aphis.usda.gov. Your comment must be contained in the body of your message; do not send attached files. Please include your name and address in your message and “Docket No. 01-127-1” on the subject line.

A copy of the study and any comments that we receive on it may be reviewed in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Dr. Alan K. Dowdy, Associate Director, Center for Plant Health Science and Technology, PPQ, APHIS, 1017 Main Campus Drive, Suite 2500, Raleigh, NC 27606; (919) 513-2400.

SUPPLEMENTARY INFORMATION: Title IV of the Agricultural Risk Protection Act of 2000 (Pub. L. 106-224), known as the Plant Protection Act (7 U.S.C. 7701 through 7772, referred to below as the Act), incorporated preexisting plant quarantine and related statutes into a comprehensive law aimed at, among other things, clarifying and augmenting the Secretary's authority to detect, control, and eradicate plant pests and noxious weeds.

Section 412(e) of the Act directs the Secretary of Agriculture to conduct a study of the role for and application of systems approaches designed to guard against the introduction of plant pathogens into the United States on imported plants and associated products. A systems approach is defined in the Act as a defined set of phytosanitary procedures, at least two of which have an independent effect in mitigating pest risk associated with the movement of commodities.

To conduct the study required by § 412(e) of the Act, the Animal and Plant Health Inspection Service (APHIS) of the U.S. Department of Agriculture (USDA) entered into a cooperative agreement with the National Plant Board (NPB), an organization of the plant pest regulatory agencies of each of the States and the Commonwealth of Puerto Rico, to carry out the study. The agreement directed the NPB to coordinate the project, to conduct the actual research, to prepare a report of the findings, and to provide overall leadership to participating scientists from State departments of agriculture, colleges and universities, the private sector, and the Agricultural Research Service of the USDA.

The NPB has now given its final draft to APHIS. Before the Department presents its report on the results of this study to the Committee on Agriculture, Nutrition, and Forestry of the Senate and the Committee on Agriculture of the House of Representatives, as required by the Act, APHIS is making the study available to the public for review and comment.

The study makes the finding that “systems approaches are both scientifically and theoretically sound.” In addition, the study notes that in every case in which a systems approach has been applied to date, it has “facilitated trade and concurrently thwarted the introduction and establishment of unwanted plant pathogens.”

The study recommends that APHIS use the process of systems engineering when developing systems approaches for importations of plants or plant products. Systems engineering has seven steps: Requirements development, concept development, full-scale engineering, system development, system test, system operation, and retirement and replacement.

The first step, requirements development, involves defining the problem as the customer sees it; this is the critical step for stakeholder input. The study also recommends that APHIS strengthen its monitoring and verification of systems approaches.

We invite your comments on the study. Please consider the following questions in your comments:

• What are the implications you see for import markets if we accept the NPB's recommendations?

• What are the implications you see for export markets if we accept the NPB's recommendations?

• Do you believe that there would be value in having APHIS use the systems engineering process recommended in the study to develop and evaluate a systems approach for a plant or plant product you wanted to import into the United States?

• Are there particular disadvantages to the use of a systems engineering process which would militate against its adoption?

• What are options for improved verification and monitoring of systems approaches?

• Are there other relevant issues that need to be addressed that are not discussed in the study?

The study is available in our reading room (information on the location and hours of the reading room is listed under the heading ADDRESSES at the beginning of this notice) or on the Internet at http://www.aphis.usda.gov/ppq/. You may also request that a copy be mailed to you by registering at http://www.aphis.usda.gov/ppq/ or by contacting the person listed under

FOR FURTHER INFORMATION CONTACT: If you request that a copy be mailed to you, please specify whether you desire a printed copy or a copy on compact disk.

Authority: 7 U.S.C. 7701-7772.

Done in Washington, DC, this 29th day of May, 2002.
Bobby R. Acord,
Administrator, Animal and Plant Health Inspection Service.

[FR Doc. 02-13921 Filed 6-3-02; 8:45 am]

BILLING CODE 3410-34-P